DEPARTMENT OF ENERGY

Federal Energy Regulatory Commission

[Docket No. PF04-16-000]

Empire State Pipeline; Notice of Environmental Review and Scoping for the Empire Connector Project and Request for Comments on Environmental Issues

October 4, 2004.

The staff of the Federal Energy Regulatory Commission (FERC or Commission) will prepare an environmental assessment (EA) that will discuss the environmental impacts of Empire State Pipeline's (Empire) proposed Empire Connector Project (project) in New York. The proposed facilities would consist of about 80 miles of 24-inch-diameter pipeline extending from Empire's existing pipeline in Victor, New York, to an interconnection with the Millennium Pipeline near Corning, New York; and about 22,000 horsepower (hp) of compression at a new compressor station on Empire's exiting pipeline in Oakfield, New York. The Commission will use this EA in its decision-making process to determine whether or not the project is in the public convenience and necessity.

The project is currently in the preliminary design stage. At this time no formal application has been filed with the FERC. For this project, the FERC staff is initiating its National Environmental Policy Act (NEPA) review prior to receiving the application. This will allow interested stakeholders to be involved early in project planning and to identify and resolve issues before an application is filed with the FERC. A docket number (PF04-16-000) has been established to place information filed by Empire and related documents issued by the Commission, into the public record.¹ Once a formal application is filed with the FERC, a new docket number will be established.

¹ To view information in the docket, follow the instructions for using the eLibrary link at the end of this notice.

This notice is being sent to landowners along the various pipeline routes under consideration; Federal, state, and local government agencies; elected officials; environmental and public interest groups; Native American tribes; and local libraries and newspapers.

With this notice, we ² are asking these and other Federal, state, and local agencies with jurisdiction and/or special expertise with respect to environmental issues to formally cooperate with us in the preparation of the EA. These agencies may choose to participate once they have evaluated the proposal relative to their responsibilities. Agencies which would like to request cooperating status should follow the instructions for filing comments described in appendix 2 of this notice. We encourage government representatives to notify their constituents of this planned project and encourage them to comment on their areas of concern.

² “We,” “us,” and “our” refer to the environmental staff of the Office of Energy Projects.

Some affected landowners may be contacted by a project representative about the acquisition of an easement to construct, operate, and maintain the proposed pipeline. If so, the company should seek to negotiate a mutually acceptable agreement. In the event that the project is certificated by the Commission, that approval conveys the right of eminent domain for securing easements for the pipeline. Therefore, if easement negotiations fail to produce an agreement, the company could initiate condemnation proceedings in accordance with state law.

Summary of the Proposed Project

Empire proposes to construct and operate about 80 miles of 24-inch-diameter natural gas pipeline and related facilities to deliver up to 250,000 dekatherms per day (Dth/d) of natural gas from TransCanada Pipelines, Ltd. to the Millennium Pipeline. The pipeline would be constructed in Ontario, Yates, Schuyler, and Chemung Counties, New York. Empire would construct the new 22,000 hp compressor station on its existing pipeline in Genesee County, New York.

At this time, KeySpan Gas East Corporation (KeySpan) has executed a precedent agreement for 150,000 Dth/d of the proposed transportation capacity on Empire's system. KeySpan has requested that the proposed facilities be available to provide the requested service by November 1, 2006. Therefore, Empire plans to file its certificate application in March 2005 and states that it would need to receive authority for the project by January 2006 in order to meet the requested in-service date.

A map depicting the preliminary pipeline route is provided in appendix 1. ³

³ The appendices referenced in this notice are not being printed in the Federal Register. Copies are available on the Commission's Internet Web site (http://www.ferc.gov) Copies are available on the Commission's Internet Web site (http://www.ferc.gov) at the “eLibrary” link or from the Commission's Public Reference and Files Maintenance Branch at (202) 502-8371. For instructions on connecting to eLibrary refer to the last page of this notice.

Land Requirements

Construction of the proposed facilities would require a total of about 900 acres of land. Typically, pipeline construction would occur within a nominal 75-foot-wide right-of-way. This width would be reduced in forested areas to 65 feet and would be increased up to 100 feet in agricultural areas where segregated topsoil would be stored and in areas with rugged terrain which would require additional right-of-way width for tiered construction or for extra workspace for spoil storage or safety. The pipeline construction right-of-way would require about 815 acres of land plus about 5 acres of land for additional temporary workspaces at road, railroad, waterbody and wetland crossings for staging the crossing of these features. About 20 acres would be required for construction of the compressor station and other aboveground facilities. Empire anticipates needing to use about 15 miles of access roads during construction, affecting about 30 acres of land. Most of these roads would be existing roads, but they may be widened and/or lengthened and some may be new roads. Also, Empire would need about 30 acres for use as contractor or pipe yards.

Following construction, about 500 acres would be maintained for operation of the new facilities. About 480 acres would be required along the permanent, 50-foot-wide pipeline right-of-way. About 10 acres would be permanently required for the new compressor station and other aboveground facility sites. Empire anticipates needing to use about 5 miles of the access roads used during construction as permanent access road affecting about 10 acres. The remaining 400 acres of land would be restored and allowed to revert to its former use.

The EA Process

NEPA requires the Commission to take into account the environmental impacts that could result from an action whenever it considers the issuance of a Certificate of Public Convenience and Necessity. NEPA also requires us to discover and address issues and concerns the public may have about proposals. This process is referred to as “scoping.” The main goal of the scoping process is to focus the analysis in the EA on the important environmental issues and reasonable alternatives. By this notice, we are requesting agency and public comments on the scope of the issues to be analyzed and presented in the EA. All scoping comments received will be considered during the preparation of the EA. To ensure your comments are considered, please carefully follow the instructions in the public participation section of this notice.

The EA will discuss impacts that could occur as a result of the construction and operation of the proposed project under these general headings:

• Geology and soils.

• Water resources, fisheries, and wetlands.

• Vegetation and wildlife.

• Endangered and threatened species.

• Land use.

• Cultural resources.

• Air quality and noise.

• Public safety.

Our independent analysis of the issues will be in the EA. Depending on the comments received during the scoping process, the EA may be published and mailed to Federal, state, and local agencies, public interest groups, interested individuals, affected landowners, newspapers, libraries, and the Commission(s official service list for this proceeding. A comment period will be allotted for review if the EA is published. We will consider all comments on the EA before we make our recommendations to the Commission.

To ensure your comments are considered, please carefully follow the instructions in the public participation section beginning on page 5.

Currently Identified Environmental Issues

We have identified several issues that we think deserve attention based on a preliminary review of the planned facilities and the environmental resources present in the project area. This preliminary list of issues may be changed based information obtained during the public participation period and on our continuing analysis:

• Geology and Soils.

— Assessment of construction and restoration on agricultural lands and areas with a high water table.

— Assessment of impacts related to blasting.

• Water Resources.

— Impact on water quality and aquatic species crossed by pipeline facilities.

— Impacts on water wells and groundwater.

— Impacts on wetlands.

• Fish, Wildlife, and Vegetation.

— Effects on wildlife and fisheries.

— Potential effects on essential fish habitat.

• Endangered and Threatened Species.

— Potential effects on federally-listed species.

• Cultural Resources.

— Assessment of cultural resources studies.

— Native American and tribal concerns.

• Land Use, Recreation and Special Interest Areas, and Visual Resources.

— Effects of construction and operation on existing land uses.

— Effects of construction on residential properties.

— Permanent land use alteration associated with site development.

— Visual impacts associated with the new compressor station and other above ground facilities.

• Air Quality and Noise.

— Effects on air quality and the noise environment from construction and operation of the proposed facilities.

• Reliability and Safety.

— Safety and security of the compressor station and pipeline.

Our evaluation will also include possible alternatives to the proposed project or portions of the project, and we will make recommendations on how to lessen or avoid impacts on the various resource areas of concern.

Public Participation

You can make a difference by providing us with your specific comments or concerns about the project. By becoming a commentor, your concerns will be addressed in the EA and considered by the Commission. You should focus on the potential environmental effects of the proposal, alternatives to the proposal (including alternative locations and routes), and measures to avoid or lessen environmental impact. Empire has established a preliminary pipeline route for the project; however, if minor reroutes or variations are required to avoid or minimize impacts to certain features on your property, this is your opportunity to assist us and Empire in identifying your specific areas of concern. The more specific your comments, the more useful they will be. Please carefully follow these instructions to ensure that your comments are received and properly recorded:

• Send an original and two copies of your letter to: Magalie R. Salas, Secretary, Federal Energy Regulatory Commission, 888 First St., NE., Room 1A, Washington, DC 20426;

• Label one copy of your comments for the attention of Gas Branch 2; and

• Reference Docket No. PF04-16-000 on the original and both copies.

Please note that we are continuing to experience delays in mail deliveries from the U.S. Postal Service. As a result, we will include all comments that we receive within a reasonable time frame in our environmental analysis of this project. However, the Commission encourages electronic filing of any comments or interventions or protests to this proceeding. See 18 CFR 385.2001(a)(1)(iii) and the instructions on the Commission's Web site at http://www.ferc.gov under the “eFiling” link and the link to the User's Guide. Before you can file comments you will need to create a free account which can be created by clicking on “Login to File” and then “New User Account.”

If you do not want to send comments at this time but still want to remain on our mailing list, please return the Mailing List Retention Form included in Appendix 3.

The environmental staff of the FERC will conduct a site visit of the proposed facility locations. Anyone interested in participating in the field trip may attend, but they must provide their own transportation. We will meet at the following locations at the indicated dates and times:

Tuesday, October 19, 2004

8 a.m., Corning Museum of Glass, One Museum Way, Corning, New York.

Wednesday, October 20, 2004

8 a.m., Dresden Post Office parking lot, 60 Main St., Dresden, NY.

Please contact Empire's representative Vince Dick at (585) 321-4207 for directions to the locations of the beginning of the site visit.

Availability of Additional Information

Additional information about the project is available from the Commission's Office of External Affairs, at 1-866-208 FERC (3372) or on the FERC Internet Web site (http://www.ferc.gov). Using the “eLibrary” link, select “General Search” from the eLibrary menu, enter the selected date range and “Docket Number” (i.e., PF04-16-000), and follow the instructions. Searches may also be done using the phrase “Empire” in the “Text Search” field. For assistance with access to eLibrary, the helpline can be reached at 1-866-208-3676, TTY (202) 502-8659, or at FERCOnlineSupport@ferc.gov. The eLibrary link on the FERC Internet Web site also provides access to the texts of formal documents issued by the Commission, such as orders, notices, and rule makings.

In addition, the Commission now offers a free service called eSubscription that allows you to keep track of all formal issuances and submittals in specific dockets. This can reduce the amount of time you spend researching proceedings by automatically providing you with notification of these filings, document summaries, and direct links to the documents. To register for this service, go to http://www.ferc.gov/esubscribenow.htm.

Magalie R. Salas,
Secretary.

[FR Doc. E4-2586 Filed 10-12-04; 8:45 am]

BILLING CODE 6717-01-P